DEPARTMENT OF TRANSPORTATION

National Highway Traffic Safety Administration

Petition for Exemption From the Federal Motor Vehicle Theft Prevention Standard; DaimlerChrysler

AGENCY: National Highway Traffic Safety Administration (NHTSA), Department of Transportation (DOT).

ACTION: Grant of petition for exemption.

SUMMARY: This document grants in full the petition of DaimlerChrysler Corporation, (DaimlerChrysler) for an exemption of a high-theft line, the Chrysler Town and Country, from the parts-marking requirements of the Federal Motor Vehicle Theft Prevention Standard. This petition is granted because the agency has determined that the antitheft device to be placed on the line as standard equipment is likely to be as effective in reducing and deterring motor vehicle theft as compliance with the parts-marking requirements of the Theft Prevention Standard.

DATES: The exemption granted by this notice is effective beginning with model year (MY) 2005.

FOR FURTHER INFORMATION CONTACT: Ms. Rosalind Proctor, Office of Planning and Consumer Standards, NHTSA, 400 Seventh Street, SW., Washington DC 20590. Ms. Proctor's phone number is (202) 366-0846. Her fax number is (202) 493-2290.

SUPPLEMENTARY INFORMATION: In a petition dated March 19, 2003, DaimlerChrysler Corporation (DaimlerChrysler), requested an exemption from the parts-marking requirements of the theft prevention standard (49 CFR part 541) for the Chrysler Town and Country vehicle line, beginning with MY 2005. The petition requested an exemption from parts-marking requirements pursuant to 49 CFR part 543, Exemption from Vehicle Theft Prevention Standard, based on the installation of an antitheft device as standard equipment for the entire vehicle line.

Section 33106(b)(2)(D) of Title 49, United States Code, authorized the Secretary of Transportation to grant an exemption from the parts-marking requirements for not more than one additional line of a manufacturer for MYs 1997-2000. However, it does not address the contingency of what to do after model year 2000 in the absence of a decision under Section 33103(d). 49 U.S.C. 33103(d)(3) states that the number of lines for which the agency can grant an exemption is to be decided after the Attorney General completes a review of the effectiveness of antitheft devices and finds that antitheft devices are an effective substitute for parts-marking. The Attorney General has not yet made a finding and has not decided the number of lines, if any, for which the agency will be authorized to grant an exemption. Upon consultation with the Department of Justice, we determined that the appropriate reading of Section 33103(d) is that the National Highway Traffic Safety Administration (NHTSA) may continue to grant parts-marking exemptions for not more than one additional model line each year, as specified for model years 1997-2000 by 49 U.S.C. 33106(b)(2)(C). This is the level contemplated by the Act for the period before the Attorney General's decision. The final decision on whether to continue granting exemptions will be made by the Attorney General at the conclusion of the review pursuant to section 33103(d)(3).

DaimlerChrysler's submission is considered a complete petition as required by 49 CFR 543.7, in that it meets the general requirements contained in §543.5 and the specific content requirements of §543.6.

In its petition, DaimlerChrysler provided a detailed description and diagram of the identity, design, and location of the components of the antitheft device for the new vehicle line. DaimlerChrysler will install its antitheft device as standard equipment on the MY 2005 Chrysler Town & Country vehicle line. The antitheft device to be installed on the MY 2005 Chrysler Town & Country incorporates an ignition immobilizer system and an unauthorized vehicle start telltale light. The system does not include an audible or visual alarm as standard equipment.

The antitheft device incorporates a Sentry Key Immobilizer Module (SKIM), a Powertrain Control Module (PCM), and a sentry key. The Sentry Key Immobilizer System (SKIS) prevents the engine from running for more than 2 seconds unless a valid key is in the ignition switch. The immobilizer feature is activated when the key is removed from the ignition switch whether the vehicle doors are open or not. Once activated, only a valid key inserted into the ignition switch will disable immobilization and allow the vehicle to start and continue to run. A visual telltale light alerts the owner that an unauthorized attempt to start the vehicle has been made.

When the sentry key is placed in the ignition, the SKIM and the key communicate via a radio-frequency (RF) signal. After the SKIM determines that the key is valid, the SKIM requests a Seed Response Message code from the PCM on all vehicles. The PCM then verifies the code from the SKIM and transmits a key status (valid/invalid signal). The foregoing communication requires approximately 2 seconds to perform. Therefore, in order to avoid any perceived delay when starting the vehicle with a valid key, and to prevent unburned fuel from entering the exhaust, the engine is permitted to run for no more than 2 seconds if an invalid key is used. If the code from the SKIM is valid, the PCM immobilizes the vehicle by shutting down the engine (after the initial 2 second run). Only 6 consecutive invalid vehicle start attempts will be permitted. All further invalid attempts are locked out by not firing fuel injectors and not engaging the starter. Only the communication with a valid key is required to permit the engine to start and run.

The SKIM also sends indicator light status messages to the Mechanical Instrument Cluster (MIC) to operate the telltale light functions. The telltale alerts the owner that an unauthorized vehicle start attempt has been made. The SKIM transmits the indicator light status messages via a J1850 Programmable Communications Interface (PCI) bus. Initially, the telltale will be illuminated for three seconds when the ignition switch is turned to the “ON” position. This serves as a bulb check. If the SKIM detects an invalid key when the immobilizer has not been disarmed and the ignition is in the “ON/START” position, or a key-related fault exists, the indicator light will flash following the indicator light test. The telltale light also functions as a system diagnostic indicator. The light comes ON and stays ON until after the indicator light test signifies that the SKIM has detected a system malfunction and/or that the SKIS has become inoperative.

Replacing the SKIM requires a secret key to decode the ignition keys. A copy of this secret key is stored in the PCM. When a SKIM is replaced, the secret key must be transferred into the SKIM. A diagnostic tool must be used to put the PCM and SKIM into secured access mode and a request to the controller to transmit the secret key to the SKIM via the J1850 PCI bus must be made.

DaimlerChrysler stated that the SKIM performs the interrogation with the transponder in the key using a Texas Instruments proprietary algorithm which results in a 40-bit number which allows for over one trillion combinations. Each ignition key used in the SKIS has an integral transponder chip. Ignition keys with this feature can be readily identified by a gray rubber cap molded onto the head of the key, while conventional ignition keys have a black molded rubber. The transponder chip is concealed beneath the molded rubber cap, where it is molded into the head of the metal key.

In order to ensure the reliability and durability of the device, DaimlerChrysler conducted tests based on its own specified standards and stated its belief that the device meets the stringent performance standards prescribed. Specifically, the device must demonstrate a minimum of 95 percent reliability with 90 percent confidence. This is the same standard that vehicle air bag systems are designed and tested to. In addition to the design and production validation test criteria, the SKIS undergoes a daily short term durability test whereby three randomly chosen systems are tested once per shift at the production facility. DaimlerChrysler also stated that 100% of its systems undergo a series of three functional tests prior to being shipped from the supplier to the vehicle assembly plant for installation in the vehicle.

DaimlerChrysler stated that its actual theft experience with Chrysler Town & Country vehicles, where currently an immobilizer system is not offered as standard equipment, indicates that these vehicles have a theft rate significantly lower than the 1990/1991 median theft rate of 3.5826. DaimlerChrysler stated that NHTSA's theft rates for the Chrysler Town & Country vehicles for model years 1996 through 2000 are 1.0661, 1.3094, 0.8257, 1.3543, and 0.9658, respectively. DaimlerChrysler states that vehicles subject to the parts marking requirements that subsequently are equipped with ignition immobilizer systems as standard equipment indicate that even lower theft rates can be expected from a vehicle equipped with standard ignition immobilizer systems.

DaimlerChrysler offered the Jeep Grand Cherokee vehicles as an example of vehicles subject to part 541 parts marking requirements that subsequently are equipped with ignition immobilizer systems as standard equipment. NHTSA's theft rates for the Jeep Grand Cherokee vehicles for model years 1995 through 1998 were 5.5545, 7.0188, 4.3163, and 4.3557, respectively, all significantly higher than the 1990/1991 median theft rate. DaimlerChrysler indicated that, since the introduction of immobilizer systems as standard equipment on the Jeep Grand Cherokee vehicles, the MY 1999 and 2000 theft rates are 2.5630 and 2.4701, respectively, significantly lower than the 1990/1991 median theft rate of 3.5826. The Jeep Grand Cherokee vehicles were granted an exemption from the parts marking requirements beginning with MY 2004 vehicles.

On the basis of this comparison, DaimlerChrysler has concluded that the proposed antitheft device is no less effective than those devices installed on lines for which NHTSA has already granted full exemption from the parts-marking requirements.

Based on the evidence submitted by DaimlerChrysler, the agency believes that the antitheft device for the Chrysler Town & Country vehicle line is likely to be as effective in reducing and deterring motor vehicle theft as compliance with the parts-marking requirements of the Theft Prevention Standard (49 CFR part 541). The agency concludes that the device performs all four functions listed in 543.6(a)(3): Promoting activation; preventing defeat or circumvention of the device by unauthorized persons; preventing operation of the vehicle by unauthorized entrants; and ensuring the reliability and durability of the device.

As required by 49 U.S.C. 33106 and 49 CFR 543.6(a)(4) and (5), the agency finds that DaimlerChrysler has provided adequate reasons for its belief that the antitheft device will reduce and deter theft. This conclusion is based on the information DaimlerChrysler provided about its antitheft device. For the foregoing reasons, the agency hereby grants in full DaimlerChrysler's petition for an exemption for the MY 2005 Chrysler Town & Country vehicle line from the parts-marking requirements of 49 CFR part 541. If DaimlerChrysler decides not to use the exemption for this line, it should formally notify the agency. If such a decision is made, the line must be fully marked according to the requirements under 49 CFR 541.5 and 541.6 (marking of major component parts and replacement parts).

NHTSA notes that if DaimlerChrysler wishes in the future to modify the device on which this exemption is based, the company may have to submit a petition to modify the exemption. Section 543.7(d) states that a part 543 exemption applies only to vehicles that belong to a line exempted under this part and equipped with the antitheft device on which the line's exemption is based. Further, Section 543.9(c)(2) provides for the submission of petitions “to modify an exemption to permit the use of an antitheft device similar to but differing from the one specified in that exemption.”

The agency wishes to minimize the administrative burden that Section 543.9(c)(2) could place on exempted vehicle manufacturers and itself. The agency did not intend in drafting part 543 to require the submission of a modification petition for every change to the components or design of an antitheft device. The significance of many such changes could be de minimis. Therefore, NHTSA suggests that if the manufacturer contemplates making any changes the effects of which might be characterized as de minimis, it should consult the agency before preparing and submitting a petition to modify.

Authority: 49 U.S.C. 33106; delegation of authority at 49 CFR 1.50.

Issued on: August 1, 2003.
Stephen R. Kratzke,
Associate Administrator for Rulemaking.

[FR Doc. 03-20055 Filed 8-5-03; 8:45 am]

BILLING CODE 4910-59-P